DEPARTMENT OF STATE

[Public Notice 11757]

Renewal of Defense Trade Advisory Group Charter

ACTION: Notice.

SUMMARY: The Department of State announces the renewal of the Charter for the Defense Trade Advisory Group (DTAG) for another two years. The DTAG advises the Department on its support for and regulation of defense trade to help ensure the foreign policy and national security of the United States continues to be protected and advanced, while helping to reduce unnecessary impediments to legitimate exports in order to support the defense requirements of U.S. friends and allies. It is the only Department of State advisory committee that addresses defense trade related topics. The DTAG will remain in existence for two years after the filing date of the Charter unless terminated sooner. The DTAG is authorized by Department of State regulations and the Federal Advisory Committee Act. For more information, contact Michael Miller, Designated Federal Officer, Defense Trade Advisory Group, and Deputy Assistant Secretary, Directorate of Defense Trade Controls, Department of State, Washington, DC 20520, telephone: (202) 663-2861.

Michael Miller,
Designated Federal Officer, Defense Trade Advisory Group, Department of State.

[FR Doc. 2022-12983 Filed 6-15-22; 8:45 am]

BILLING CODE 4710-25-P